DEPARTMENT OF THE INTERIOR

Bureau of Land Management

[WO-260-09-1060-00-24 1A]

Correction to Notice of Call for Nominations for the Wild Horse and Burro Advisory Board

AGENCY: Bureau of Land Management, Interior.

ACTION: Correction to Notice of Call for Nominations for the Wild Horse and Burro Advisory Board. This notice was previously published in the Federal Register: Vol. 67, No. 98/Tuesday May 21, 2002.

SUMMARY: The Federal Register Notice has an incorrect date for nominations to be submitted to the National Wild Horse and Burro Advisory Board. The correct date is July 24, 2002. The nominations should be submitted to the National Wild Horse and Burro Program, Bureau of Land Management, Department of the Interior, P.O. Box 12000, Reno, Nevada 89520-0006, Attn: Ramona DeLorme; FAX (775) 861-6711.

FOR FURTHER INFORMATION CONTACT: John Fend, Group Manager—Wild Horse and Burro Group, (202) 452-0379.

Michael Schwartz,
Group Manager, Regulatory Affairs.

[FR Doc. 02-15822 Filed 6-21-02; 8:45 am]

BILLING CODE 4310-84-P